DEPARTMENT OF THE TREASURY

Customs Service

[T.D. 00-21]

Cancellations of Customs Broker Licenses

AGENCY: Customs Service, Department of the Treasury.

ACTION: Brokers' licenses cancellations.

I, the Commissioner of Customs, pursuant to section 641(f) Tariff Act of 1930, as amended (19 U.S.C. 1641(f)) and section 111.51(a) of the Customs Regulations (19 111.51(a)), hereby cancel the following Customs brokers' licenses without prejudice.

Port | Individual | License No.
Seattle | Airgo Freight Inc. | 15005
San Francisco | R.A. Leslie & Company, Inc. | 08015
Boston | MBC Freight Consultants (USA), Inc. | 12373
Chicago | Robson Enterprises, Inc. | 09163
New York | Thyssen Haniel Logistics, Inc. | 12132
New York | Majestic Customs House Broker, Inc. | 11877
New York | V.A.B. Customs Brokers | 12869

Dated: March 17, 2000.
Raymond W. Kelly,
Commissioner.

[FR Doc. 00-7910 Filed 3-29-00; 8:45 am]

BILLING CODE 4820-02-P